DEPARTMENT OF ENERGY

Federal Energy Regulatory Commission

[Docket Nos.EL03-117-000, QF90-65-008, QF90-87-008, and QF86-972-006]

Investigation of Certain Enron-Affiliated QFs: Cogen Technologies Linden Venture, L.P., Camden Cogen L.P., and Cogen Technologies NJ Venture; Notice of Initiation of Proceeding and Establishment of Intervention Date

May 6, 2003.

On May 2, 2003, the Commission issued an “Order Initiating Investigation, Establishing Hearing Procedures, and Consolidating Dockets” (Order) in reference to the above-captioned proceeding. Ordering Paragraph B of the Order directed the Secretary to publish, in the Federal Register, a Notice announcing the Commission's initiation of the proceeding and establishing a date for the filing of interventions.

By this notice, the date for filing motions to intervene in the above-captioned proceeding is May 23, 2003.

Magalie R. Salas,
Secretary.

[FR Doc. 03-11795 Filed 5-12-03; 8:45 am]

BILLING CODE 6717-01-P